DEPARTMENT OF COMMERCE

International Trade Administration

[A-570-848]

Freshwater Crawfish Tail Meat from the People's Republic of China: Final Results of the Expedited Second Sunset Review of the Antidumping Duty Order

AGENCY: Import Administration, International Trade Administration, Department of Commerce.

SUMMARY: On July 1, 2008, the Department of Commerce (the Department) initiated the second sunset review of the antidumping duty order on freshwater crawfish tail meat from the People's Republic of China (PRC) pursuant to section 751(c) of the Tariff Act of 1930, as amended (the Act). The Department conducted an expedited (120-day) sunset review of this order. As a result of this sunset review, the Department finds that revocation of the antidumping duty order would likely lead to continuation or recurrence of dumping.

EFFECTIVE DATE: November 5, 2008.

FOR FURTHER INFORMATION CONTACT: Lyn Johnson or Minoo Hatten, AD/CVD Operations, Office 5, Import Administration, International Trade Administration, U.S. Department of Commerce, 14th Street and Constitution Avenue, NW, Washington, DC 20230; telephone: (202) 482-0665 and (202) 482-1690, respectively.

Background

On July 1, 2008, the Department initiated the second sunset review of the antidumping duty order on freshwater crawfish tail meat from the PRC. See Initiation of Five-year (“Sunset”) Review, 73 FR 37411 (July 1, 2008). The Department received a Notice of Intent to Participate from a domestic interested party, the Crawfish Processors Alliance (CPA), within the deadline specified in 19 CFR 351.218(d)(l)(i). On July 30, 2008, we received a complete substantive response from CPA within the 30-day deadline in accordance with 19 CFR 351.218(d)(3)(i). We did not receive responses from any other parties. Accordingly, pursuant to section 751(c)(3)(B) of the Act and 19 CFR 351.218(e)(1)(ii)(C)(2), the Department has conducted an expedited (120-day) sunset review of the order.

Scope of Order

The product covered by this antidumping duty order is freshwater crawfish, in all its forms (whether washed or with fat on, whether purged or unpurged), grades, and sizes; whether frozen, fresh, or chilled; and regardless of how it is packed, preserved, or prepared. Excluded from the scope of the order are live crawfish and other whole crawfish, whether boiled, frozen, fresh, or chilled. Also excluded are saltwater crawfish of any type, and parts thereof. Freshwater crawfish tail meat is currently classifiable in the Harmonized Tariff Schedule of the United States (HTSUS) under item numbers 1605.40.10.10 and 1605.40.10.90, which are the new HTSUS numbers for prepared foodstuffs, indicating peeled crawfish tail meat and other, as introduced by the CBP in 2000, and HTSUS numbers 0306.19.00.10 and 0306.29.00.00, which are reserved for fish and crustaceans in general. The HTSUS subheadings are provided for convenience and customs purposes only. The written description of the scope of this order is dispositive.

Analysis of Comments Received

The issues raised by CPA are addressed in the “Issues and Decision Memorandum” (Decision Memo) from Stephen J. Claeys, Deputy Assistant Secretary, to David M. Spooner, Assistant Secretary, dated October 29, 2008, which is hereby adopted by this notice. The issues discussed in the Decision Memo include the likelihood of continuation or recurrence of dumping and the magnitude of the margins likely to prevail if the order were to be revoked. The Decision Memo, which is a public document, is on file in the Central Records Unit, main Department of Commerce building, Room 1117, and is accessible on the Web at http://ia.ita.doc.gov/frn/index.html. The paper copy and electronic version of the Decision Memo are identical in content.

Final Results of the Review

We determine that revocation of the antidumping duty order on freshwater crawfish tail meat from the PRC would be likely to lead to continuation or recurrence of dumping at the following weighted-average percentage margins:

Manufacturer/Exporter | Percentage Margin
China Everbright Trading Company | 156.77
Binzhou Prefecture Foodstuffs Import Export Corp. | 119.39
Huaiyin Foreign Trade Corp. | 91.50
Yancheng Foreign Trade Corp. | 108.05
Jiangsu Cereals, Oils & Foodstuffs Import & Export Corp. | 122.92
Yancheng Baolong Aquatic Foods Co., Ltd. | 122.92
Huaiyin Ningtai Fisheries Co., Ltd. | 122.92
Nantong Delu Aquatic Food Co., Ltd. | 122.92
PRC-wide Rate | 201.63

This notice serves as a reminder to parties subject to the administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

We are issuing and publishing this notice in accordance with sections 751(c), 752, and 777(i)(1) of the Act.

Dated: October 29, 2008.
David M. Spooner,
Assistant Secretary for Import Administration.

[FR Doc. E8-26394 Filed 11-4-08; 8:45 am]

BILLING CODE 3510-DS-S